DEPARTMENT OF HOUSING AND URBAN DEVELOPMENT

[Docket No. FR-4800-FA-16]

Announcement of Funding Awards for the Housing Choice Voucher Family Self Sufficiency Program for Fiscal Year 2003

AGENCY: Office of Public and Indian Housing, HUD.

ACTION: Announcement of funding awards.

SUMMARY: In accordance with Section 102(a)(4)(C) of the Department of Housing and Urban Development Reform Act of 1989, this announcement notifies the public of funding decisions made by the Department for funding under the Fiscal Year (FY) 2003 Notice of Funding Availability (NOFA) for the Family Self Sufficiency (FSS) Funding for FY2003. This announcement contains the consolidated names and addresses of those award recipients selected for funding based on the rating and ranking of all applications and the allocation of funding available for each state.

FOR FURTHER INFORMATION CONTACT: For questions concerning the FY2003 Family Self Sufficiency awards, contact the Office of Public and Indian Housing, Grant Management Center, Director, Iredia Hutchinson, Department of Housing and Urban Development, Washington, DC 20410-5000, telephone (202) 358-0221. For the hearing- or speech-impaired, these numbers may be accessed via TTY (text telephone) by calling the Federal Information Relay Service at (800) 877-8339. (Other than the “800” TTY number, these telephone numbers are not toll-free.)

SUPPLEMENTARY INFORMATION: The authority for the $47,688,000 in one-year budget authority FSS program coordinators is found in the Departments of Veteran Affairs and Housing and Urban Development, and Independent Agencies Appropriations Act, FY2003 (Pub. L. 108). The allocation of housing assistance budget authority is pursuant to the provisions of 24 CFR part 791, subpart D, implementing section 213(d) of the Housing and Community Development Act of 1974, as amended.

This program is intended to promote the development of local strategies to coordinate the use of assistance under the Housing Choice Voucher program with public and private resources to enable participating families to achieve economic independence and self-sufficiency. An FSS program coordinator assures that program participants are linked to the supportive services they need to achieve self-sufficiency.

The FY2003 awards announced in this Notice were selected for funding in a competition announced in a Federal Register NOFA published on April 25, 2003 (68 FR 21489). Applications were scored based on the selection criteria in that notice and funding selections made based on the rating and ranking of applications within each state.

In accordance with Section 102(a)(4)(C) of the Department of Housing and Urban Development Reform Act of 1989 (103 Stat. 1987, 42 U.S.C. 3545), the Department is publishing the names, addresses, and amounts of the 778 awards made under the FSS competitions.

Dated: September 22, 2006.
Paula O. Blunt,
General Deputy Assistant Secretary for Public and Indian Housing.

Appendix A—Fiscal Year 2003 Funding Awards for the Housing Choice Voucher; Family Self Sufficiency Program
Organization | Address/City/State/Zip Code | Amount
Selma Housing Authority | P.O. Box 950, Selma, Alabama 36702-0950 | $50,500
Florence Housing Authority | 303 North Pine Street, Florence, Alabama 35630 | 44,983
Housing Authority of The City of Decatur, Alabama | P.O. Box 878 100 Wilson Street N.E., Decatur, Alabama 35602 | 32,763
Housing Authority of Walker County, AL | P.O. Box 607 2084 Horsecreek Boulevard, Dora, Alabama 35062 | 26,556
Mobile Housing Board | P.O. Box 1345 151 South Claiborne Street, Mobile, Alabama 36633-1345 | 75,617
Tuscaloosa Housing Authority | P.O. Box 2281 2808 10th Avenue, Tuscaloosa, Alabama 35403-2281 | 48,504
Albertville Housing Authority | P.O. Box 1126 711 South Broad, Albertville, Alabama 35950 | 40,183
Jefferson County Housing Authority | 3700 Industrial Parkway, Birmingham, Alabama 35217-5316 | 36,115
Housing Authority of the Birmingham District | P.O. Box 55906 1826 Third Avenue, South, Birmingham, Alabama 35255-5906 | 47,736
Housing Authority of the City of Montgomery | 1020 Bell Street, Montgomery, Alabama 36104-3056 | 68,000
The Housing Authority of the City of Huntsville | P.O. Box 486 200 Washington Street, Huntsville, Alabama 35804-0486 | 44,125
Jacksonville Housing Authority | 895 Gardner Drive, S.E., Jacksonville, Alabama 36265 | 33,212
Housing Authority of the City of Uniontown, Alabama | P.O. Box 1160, Uniontown, Alabama 36786 | 21,134
Alaska Housing Finance Corporation | P.O. Box 101020, Anchorage, Alaska 99510-1020 | 62,040
Mohave County Housing Authority | P.O. Box 7000, Kingman, Arizona 86402-7000 | 35,744
Yuma County Housing Department | 8450 West Highway 95, Suite 88, Somerton, Arizona 85350-2534 | 27,785
Maricopa County Housing Department | 2024 North 7th Street, Suite 201, Phoenix, Arizona 85006-2155 | 40,568
Housing Authority of the City of Yuma | 420 South Madison Avenue, Yuma, Arizona 85364 | 132,552
City of Mesa Housing Services | 415 North Pasadena, Mesa, Arizona 85201-5916 | 91,889
City of Scottsdale Housing Agency | 7522 E. 1st Street, Scottsdale, Arizona 85251 | 51,926
City of Chandler Housing & Redevelopment Division | P.O. Box 4008 Mail Stop 902, Chandler, Arizona 85244-4008 | 58,760
City of Tempe/Housing Services | P.O. Box 5002 21 E. 6th Street, Suite 214, Tempe, Arizona 85281 | 62,500
Tucson Housing Authority | P.O. Box 27210, Tuson, Arizona 85726-7210 | 112,220
North Little Rock Housing Authority | P.O. Box 516 2501 Willow Street, North Little Rock, Arkansas 72115 | 41,814
Benton Public Housing Authority | 1200 West Pine, Benton, Arkansas 72015 | 29,759
Pope County Public Facilities Board | 301 East 3rd Street P.O. Box 846, Russellville, Arkansas 72811 | 33,627
Lee County Housing Authority | 100 West Main, Marianna, Arkansas 72360 | 23,230
Stuttgart Housing Authority | P.O. Box 569 1600 South Main Street, Stuttgart, Arkansas 72160 | 24,792
Jonesboro Urban Renewal and Housing Authority | 330 Union Street, Jonesboro, Arkansas 72401 | 27,752
Northwest Regional Housing Authority | P.O. Box 2568, Harrison, Arkansas 72602-2568 | 38,639
McGehee Public Residential Housing Facilities | P.O. Box 725, McGehee, Arkansas 71654 | 30,000
Housing Authority of the City of Hot Springs | 110 Highrise Circle P.O. Box 1257, Hot Springs, Arkansas 71902 | 34,639
Housing Authority for the City of Pine Bluff | P.O. Box 8872 2503 Belle Meade Drive, Pine Bluff, Arkansas 71601 | 39,390
Housing Authority of the City of Little Rock | 2800 Battery Street, Little Rock, Arkansas 72206 | 37,961
Housing Authority of the City of Siloam Springs | P.O. Box 280 2802 Hwy. 412 East, Siloam Springs, Arkansas 72761 | 32,412
Arkadelphia Housing Authority | 670 South 6th Street, Arkadelphia, Arkansas 71923 | 34,000
Mississippi County Public Facilities Board | 810 W. Keiser, Osceola, Arkansas 72370 | 69,137
West Memphis Housing Authority | 2820 Harrison Street, West Memphis, Arkansas 72301 | 33,128
White River Regional Housing Authority | P.O. Box 650, Melbourne, Arkansas 72556-0650 | 37,370
Prescott Housing Authority | P.O. Box 119, Prescott, Arkansas 71857-0119 | 20,000
Conway County Housing Authority | P.O. Box229-Bridewell Manor, Morrilton, Arkansas 72110 | 32,000
Wynne Housing Authority | P.O. Box 552, Wynne, Arkansas 72396 | 26,260
Housing Authority of the City of Conway | 355 South Mitchell, Conway, Arkansas 72034 | 30,300
Little River County Housing Authority | P.O. Box 445, Foreman, Arkansas 71836-0445 | 30,000
Harrison Housing Authority | P.O. Box 1715 710 N. Robison, Harrison, Arkansas 72601 | 57,347
Hope Housing Authority | 720 Texas Street, Hope, Arkansas 71801 | 29,500
Fayetteville Housing Authority | 1 North School, Fayetteville, Arkansas 72701 | 36,600
St. Francis County Housing Authority | P.O. Box 310 116 S. Izard, Forrest City, Arkansas 72336-0310 | 53,086
Housing Authority of the City of Fort Smith, Arkansas | 2100 North. 31st Street, Fort Smith, Arkansas 72904 | 95,445
Pulaski County Housing Agency | 201 South Broadway, Little Rock, Arkansas 72201 | 33,452
Paragould Housing Authority | P.O. Box 137 612 Canal Street, Paragould, Arkansas 72450 | 35,350
Marin Housing Authority of the County of Marin | 4020 Civic Center Drive, San Rafael, California 94903 | 105,930
Housing Authority of San Luis Obispo | 487 Leff Street, San Luis Obispo, California 93401 | 48,106
Garden Grove Housing Authority | P.O. Box 3070 11277 Garden Grove Blvd., Suite 101-C, Garden Grove, California 92843 | 62,500
Housing Authority of the County of Riverside | 5555 Arlington Avenue, Riverside, California 92504-2506 | 47,470
Housing Authority of the City of Napa | 1115 Seminary Street P.O. Box 660, Napa, California 94559-0660 | 125,000
Housing Authority of The City of Livermore | 3203 Leahy Way, Livermore, California 94550 | 47,190
Housing Authority of the City of Glendale | 613 East Broadway, Room 200, Glendale, California 91206-4391 | 62,000
Pico Rivera Housing Assistance Agency | P.O. Box 1016 6615 Passons Blvd., Pico Rivera, California 90660-1016 | 62,500
Housing Authority of the City of Santa Ana | P.O. Box 1988 20 Civic Center Plaza, Santa Ana, California 92702 | 121,200
Consolidated Area Housing Authority of Sutter County | 448 Garden Highway P.O. Box 631, Yuba City, California 95992 | 48,480
Housing Authority of the City of Redding | P.O. Box 496071 777 Cypress Avenue, Redding, California 96049-6071 | 54,767
Sonoma County Community Development Commission | 1440 Guerneville Road, Santa Rosa, California 95403-4107 | 62,500
El Dorado County Public Housing Authority | 937 Spring St, Placerville, California 95667 | 87,414
City of Fresno Housing Authority | P.O. Box 11985 1331 Fulton Mall, Fresno, California 93776-1985 | 241,905
Area Housing Authority of the County of Ventura | 1400 West Hillcrest Drive, Newbury Park, California 91320-2721 | 62,500
Housing Authority of the City of Vallejo | 200 Georgia Street P.O. Box 1432, St. Vallejo, California 94590-5905 | 125,000
Housing Authority of the City of Upland | 1226 North Campus Avenue, Upland, California 91786 | 33,489
Imperial Valley Housing Authority | 1401 D Street, Brawley, California 92227 | 50,984
Anaheim Housing Authority | 201 S. Anaheim Boulevard Second Floor, Anaheim, California 92805 | 122,325
Santa Barbara City Housing Authority | 808 Laguna Street, Santa Barbara, California 93101 | 105,840
Housing Authority of the City of Long Beach | 521 East Fourth Street, Long Beach, California 90802 | 206,193
Oxnard Housing Authority | 435 South "D" Street, Oxnard, California 93030 | 59,287
Oakland Housing Authority | 1619 Harrison Street, Oakland, California 94612 | 125,000
State Department of Housing and Community Development | P.O. Box 952054 1800 Third Street, Suite.195, Sacramento, California 94252-2054 | 54,990
Santa Monica Housing Authority | 2121 Cloverfield Blvd. Suite 131, Santa Monica, California 90404 | 62,500
Nevada County Housing Authority | 950 Maidu Avenue, Nevada City, California 95959 | 42,117
City of Oceanside Community Development Commission | 300 North Coast Highway, Oceanside, California 92054 | 116,901
Housing Authority of the City of Los Angeles | 2600 Wilshire Boulevard, Los Angeles, California 90057 | 3,175,732
Housing Authority of the City of Lakewood | 5050 Clark Avenue, Lakewood, California 90712 | 46,814
Housing Authority of the County of Los Angeles | 2 Coral Circle Monterey Park, Monterey Park, California 91755 | 46,814
San Diego County Housing Authority | 3989 Ruffin Road, San Diego, California 92123-1890 | 48,177
Roseville Housing Authority | 311 Vernon Street, Roseville, California 95678-2649 | 62,500
Housing Authority of the City of Santa Paula | 15500 West Telegraph Road, B-11 P.O. Box 404, Santa Paula, California 93061-0404 | 51,110
Housing Authority of the County of San Bernardino | 715 East Brier Drive, San Bernadino, California 92410-2841 | 114,592
Kings County Housing Authority | P.O. Box 355 680 North Douty Street, Hanford, California 93232-0355 | 60,352
Norwalk Housing Authority | 12035 Firestone Blvd P.O. Box 1030, Norwalk, California 90651-1030 | 60,289
Housing Authority of the County of Merced | 405 U Street, Merced, California 95340 | 102,393
Housing Authority of the County of Stanislaus | P.O. Box 581918 1701 Robertson Rd., Modesto, California 95358-0033 | 104,680
Housing Authority of the City of Madera | 205 North "G" Street, Madera, California 93637 | 52,904
Housing Authority of the County of San Mateo | 264 Harbor Boulevard Building A, Belmont, California 94002 | 121,200
Hawthorne Public Housing Agency | 4455 West 126th Street, Hawthorne, California 90250-4482 | 51,896
Shasta County Housing Authority | 1670 Market Street, Suite 300, Redding, California 96001 | 38,997
San Diego Housing Commission | 650 Gateway Center Way Suite D, San Diego, California 93113-1038 | 250,000
Pasadena Community Development Commission | 100 North Garfield Avenue Room 101, Pasadena, California 91109 | 40,000
Housing Authority of the County of Kern | 601 24th Street, Bakersfield, California 93301 | 105,418
Fairfield Housing Authority | 823B Jefferson Street, Fairfield, California 94533 | 100,402
Housing Authority of Alameda County | 22941 Atherton Street, Hayward, California 94541-6633 | 125,000
Housing Authority of the County of Santa Barbara | P.O. Box 397 815 West Ocean Avenue, Lompoc, California 93438-0397 | 125,000
Housing Authority of the City of San Jose | 521 Parrott Street, San Jose, California 95112 | 46,811
Housing Authority of the County of Santa Clara | 521 Parrott Street, San Jose, California 95112 | 125,000
Housing Authority of the County of Monterey | 123 Rico Street, Salinas, California 93907 | 60,188
City of Compton Housing Authority | 600 North Alameda Street, Compton, California 90221 | 43,026
Culver City Housing Agency | 9770 Culver Boulevard, Culver City, California 90232-0507 | 92,777
Housing Authority of the County of Butte | 580 Vallombrosa Avenue, Chico, California 95926 | 39,576
City of Vacaville Housing Authority | 40 Eldridge Avenue Suite 2, Vacaville, California 95688 | 125,000
Orange County Housing Authority | 1770 North Broadway, Santa Ana, California 92706 | 121,240
Solano County Housing Authority | 40 Eldridge Avenue Suite 2, Vacaville, California 95688 | 52,500
Housing Authority of the County of Santa Cruz | 2160 41st. Avenue, Capitola, California 95010-2060 | 62,500
Housing Authority of the County of San Joaquin | P.O. Box 447, Stockton, California 95201 | 55,035
Housing Authority of the County of Fresno | 1331 Fulton Mall P.O. Box 11985, Fresno, California 93776-1985 | 244,763
City of Carlsbad Housing Agency | 2965 Roosevelt Street Ste. B, Carlsbad, California 92008-2389 | 37,500
Housing Authority of the City of Benecia | 28 Riverhill Drive, Benicia, California 94510 | 118,170
Montrose County Housing Authority | 222 Hap Court, Olathe, Colorado 81425 | 30,000
Englewood Housing Authority | 3460 S. Sherman Street Suite 101, Englewood, Colorado 80110-2664 | 42,000
Garfield County Housing Authority | 2128 Railroad Avenue, Rifle, Colorado 81650 | 30,522
Jefferson County Housing Authority | 6025 West 38th Avenue, Wheat Ridge, Colorado 80033 | 36,831
Adams County Housing Authority | 7190 Colorado Blvd, Commerce City, Colorado 80022 | 87,659
Colorado Division of Housing | 1313 Sherman Street, Room 518, Denver, Colorado 80203 | 65,902
Housing Authority of the City of Aurora | 10745 East Kentucky Avenue, Aurora, Colorado 80012 | 42,251
Arvada Housing Authority | 8001 Ralston Road, Arvada, Colorado 80002 | 36,831
Colorado Department of Human Services, Supportive Housing and Homeless Programs | 4020 S. Newton St., Denver, Colorado 80236 | 53,657
Fort Collins Housing Authority | 1715 West Mountain Avenue, Fort Collins, Colorado 80521 | 52,890
Housing Authority of the City of Pueblo | 1414 North Santa Fe Avenue 10th Floor, Pueblo, Colorado 81003-3732 | 39,924
Housing Authority of the City of Colorado Springs | P.O. Box 1575 Mail Code 1490, Colorado Springs, Colorado 80901-1575 | 46,460
Lakewood Housing Authority | Civic Center South 480 South Allison Parkway, Lakewood, Colorado 80226-3127 | 36,831
Grand Junction Housing Authority | 805 Main Street, Grand Junction, Colorado 81501 | 28,763
Weld County Housing Authority | P.O. Box 130 315 North 11th Ave. Bldg # B, Greeley, Colorado 80632-0130 | 42,000
Housing Authority of the City & County of Denver | P.O. Box 40305 777 Grant Street, Denver, Colorado 80203 | 126,921
Boulder County Housing Authority | P.O. Box 471, Boulder, Colorado 80302 | 54,722
Meriden Housing Authority | 22 Church Street P.O. Box 911, Meriden, Connecticut 06451 | 44,642
Ansonia Housing Authority | 36 Main Street, Ansonia, Connecticut 06401 | 50,386
Bridgeport Housing Authority | 150 Highland Avenue, Bridgeport, Connecticut 06604 | 40,811
Housing Authority of the City of Norwalk | 24 1/2 Monroe Street P.O. Box 508, Norwalk, Connecticut 06856-0508 | 62,500
Dover Housing Authority | 76 Stevenson Drive, Dover, Delaware 19901 | 31,000
Wilmington Housing Authority | 400 North Walnut Street, Wilmington, Delaware 19801 | 55,598
District of Columbia Housing Authority | 1133 North Capitol Street, NE, Washington, District of Columbia 20002 | 125,000
Riviera Beach Housing Authority | 2014 West 17th Court, Riviera Beach, Florida 33404-5002 | 40,000
West Palm Beach Housing Authority | 1715 Division Avenue, West Palm Beach, Florida 33407-6289 | 33,835
Deerfield Beach Housing Authority | 425 NW 1st Terrace, Deerfield Beach, Florida 33441 | 14,874
Palm Beach County Housing Authority | 3432 West 45th Street, West Palm Beach, Florida 33407 | 36,108
Orange County Housing & Community Development Division | 525 East South Street, Orlando, Florida 32801 | 52,704
Punta Gorda Housing Authority | 420 Myrtle Street, Punta Gorda, Florida 33950 | 18,000
Ocala Housing Authority | 233 SW 3rd Street P.O. Box 2468, Ocala, Florida 34478-2468 | 48,426
Clearwater Housing Authority | 908 Cleveland Street, Clearwater, Florida 33756 | 32,013
Pasco County Housing Authority | 14517 7th Street, Dade City, Florida 33523 | 29,592
Panama City Housing Authority | 804 East 15th Street, Panama City, Florida 32405 | 38,340
Delray Beach Housing Authority | 770 S W 12th Terrace, Delray Beach, Florida 33444 | 39,085
Housing Authority of the City of Daytona Beach | 118 Cedar Street, Daytona Beach, Florida 32114 | 35,424
Walton County Housing Agency | P. O. Box 1258 312 College Avenue Unit D, DeFaniak Springs, Florida 32435 | 47,740
Hollywood Housing Authority | 7350 N. Davie Road, Extension, Hollywood, Florida 33024 | 18,943
Hernando County Housing Authority | 20 North Main Street, Room 205, Brooksville, Florida 34601 | 48,177
Boca Raton Housing Authority | 201 West Palmetto Park Road, Boca Raton, Florida 33432 | 29,500
Deland Housing Authority | 300 Sunflower Circle, Deland, Florida 32724-5556 | 44,524
Housing Authority of the City of Sarasota | 1300 Blvd. Of the Arts, Sarasota, Florida 34236 | 32,320
Pinellas County Housing Authority | 11479 Ulmerton Road, Largo, Florida 33778 | 89,193
County of Volusia | 123 West Indiana Ave., Room 301 Room 301, DeLand, Florida 32720-4612 | 38,443
Pahokee Housing Authority | 465 Friend Terrace, Pahokee, Florida 33476 | 24,240
Collier County Housing Authority | 1800 Farm Worker Way, Immokalee, Florida 34142 | 38,702
Housing Authority of Brevard County | 615 Kurek Court P.O. Box 540338, Merritt Island, Florida 32954-0338 | 45,386
Gainesville Housing Authority | P.O. Box 1468 1900 SE 4th Street, Gainesville, Florida 32602 | 37,550
Housing Authority of the City of Orlando, FL | 300 Reeves Court, Orlando, Florida 32801 | 96,260
City of Pensacola, Dept of Housing | 180 Governmental Center P.O. Box 12910, Pensacola, Florida 32521 | 28,831
Hialeah Housing Authority | 70 East 7th Street, Hialeah, Florida 33010 | 67,539
Broward County Housing Authority | 3810 Inverrary Blvd, Suite 405, Lauderhill, Florida 33319 | 39,734
Lee County Housing Authority | 14170 Warner Circle, North Fort Myers, Florida 33903 | 33,200
Housing Authority of the City of Lakeland | 430 South Hartsell Avenue, Lakeland, Florida 33815 | 46,307
Tallahassee Housing Authority | 2940 Grady Road, Tallahassee, Florida 32312 | 39,873
Tampa Housing Authority | 1514 Union Street, Tampa, Florida 33607 | 105,964
Housing Authority, City of Brunswick, Georgia | P.O. Box 1118, Brunswick, Georgia 31521-1118 | 40,454
Housing Authority of the City of Decatur | 325 Swanton Way, Decatur, Georgia 30031 | 49,898
Housing Authority of the City of East Point, Georgia | 1600 Connally Drive, East Point, Georgia 30344-2560 | 46,929
Augusta Housing Authority | 1425 Walton Way P.O. Box 3246, Augusta, Georgia 30914-3246 | 95,710
Housing Authority of Fulton County | 10 Park Place South, S.E. Suite 550, Atlanta, Georgia 30303 | 43,430
City of Marietta Section 8 Program | 205 Lawrence Street, Marietta, Georgia 30060 | 53,409
Housing Authority of Savannah | P.O. Box 1179, Savannah, Georgia 31402 | 67,290
Macon Housing Authority | 2015 Felton Avenue P.O. Box 4928, Macon, Georgia 31208 | 80,089
Rome Housing Authority | 800 N 5th Avenue NE, Rome, Georgia 30165-2737 | 36,400
Albany Housing Authority | 521 Pine Ave, Albany, Georgia 31701 | 33,094
Georgia Department of Community Affairs | 60 Executive Park South, N.E., Atlanta, Georgia 30329-2231 | 317,760
Housing Authority of the City of Marietta, Georgia | P.O. Drawer K 95 Cole Street N.E., Marietta, Georgia 30061-0420 | 47,500
Housing Authority of the City of Atlanta, Georgia | 230 John Wesley Dobbs Avenue, NE, Atlanta, Georgia 30303-2421 | 115,582
Jonesboro Housing Authority | P.O. Box 458, Jonesboro, Georgia 30237 | 36,900
Guam Housing and Urban Renewal Authority | 117 Bien Venida Avenue, Sinajana, Guam 96910 | 38,495
Kauai County Housing Agency | 4193 Hardy Street, #1, Lihue, Hawaii 96766 | 56,758
Hawaii County Housing Agency | 50 Wailuku Drive, Hilo, Hawaii 96720-2456 | 62,500
City and County of Honolulu | 715 South King Street Suite 311, Honolulu, Hawaii 96813 | 95,584
Ada County Housing Authority | 1276 River Street Suite 300, Boise, Idaho 83702 | 48,104
Boise City Housing Authority | 1276 River Street Suite 300, Boise, Idaho 83702 | 96,209
Southwestern Idaho Cooperative Housing Authority | 1108 West Finch Drive, Nampa, Idaho 83651 | 34,309
Idaho Housing and Finance Association | P.O. Box 7899 565 West Myrtle Street, Boise, Idaho 83707-1899 | 157,492
Madison County Housing Authority | 1609 Olive Street, Collinsville, Illinois 62234-4999 | 41,133
Springfield Housing Authority | 200 North 11th Street, Springfield, Illinois 62703 | 41,720
Decatur Housing Authority | 1808 East Locust Street, Decatur, Illinois 62521 | 45,388
Greater Metropolitan Area Housing Authority of Rock Island County | 325 Second Street, Silvis, Illinois 61282-2128 | 40,000
Housing Authority of the City of Bloomington | 104 E. Wood Street, Bloomington, Illinois 61701 | 48,780
Menard County Housing Authority | 101 West Sheridan Road P.O. Box 168, Petersburg, Illinois 62675 | 40,950
Housing Authority of Christian County | P.O. Box 86, Pana, Illinois 62557 | 44,000
Peoria Housing Authority | 100 South Richard Pryor Place, Peoria, Illinois 61605-3905 | 46,332
Housing Authority of the City of East St. Louis | 700 North 20th Street, East St. Louis, Illinois 62205 | 62,500
Housing Authority of the County of Cook | 310 South Michigan Avenue, 15th Floor, Chicago, Illinois 60604-4204 | 47,854
Chicago Housing Authority | 626 West Jackson Boulevard, Chicago, Illinois 60661-5601 | 516,630
Housing Authority of the County of Lake, Illinois | 33928 North Route 45, Grayslake, Illinois 60030 | 47,696
McHenry County Housing Authority | P.O. Box 1109 1108 North Seminary Road, Woodstock, Illinois 60098-1109 | 23,000
Waukegan Housing Authority | 215 South Martin Luther King Jr. Avenue, Waukegan, Illinois 60085 | 45,432
Housing Authority of the City of Terre Haute | One Dreiser Square P.O. Box 3086, Terre Haute, Indiana 47803-0086 | 106,000
Muncie Housing Authority | 409 East First Street, Muncie, Indiana 47302-2495 | 23,500
Columbus Housing Authority | 799 McClure Road, Columbus, Indiana 47201 | 46,729
Vincennes Housing Authority | 501 Hart Street P.O. Box 1636, Vincennes, Indiana 47591-7636 | 81,400
Goshen Housing Authority | 204 East Jefferson Street, Suite 6, Goshen, Indiana 46528-3716 | 48,015
Housing Authority of the City of South Bend | 501 Alonzo Watson Drive P.O. Box 11057, South Bend, Indiana 46634-0057 | 34,966
Knox County Housing Authority | 11 Powell Street Tilly Estate Office, Bicknell, Indiana 47512 | 30,300
Housing Authority of City of Lafayette | P.O. Box 6687 100 Executive Drive Suite A, Lafayette, Indiana 47903-6687 | 37,698
East Chicago Housing Authority | P.O. Box 498 4920 Larkspur Drive, East Chicago, Indiana 46312-4980 | 62,500
Michigan City Housing Authority | P.O. Box 416 621 East Michigan Boulevard, Michigan City, Indiana 46360 | 38,125
Housing Authority of the City of New Albany | P.O. Box 11, New Albany, Indiana 47151-0011 | 40,190
Peru Housing Authority | 701 East Main Street, Peru, Indiana 46970 | 33,182
Logansport Housing Authority | 417 North St, Suite 102, Logansport, Indiana 46947-2744 | 28,266
Housing Authority of the City of Hammond | 7329 Columbia Circle—West, Hammond, Indiana 46324-2831 | 55,421
Housing Authority of the City of Fort Wayne, IN | 2013 South Anthony Blvd. P.O. Box 13489, Fort Wayne, Indiana 46869-3489 | 74,740
Kokomo Housing Authority | P.O. Box 1207 210 East Taylor Street, Kokomo, Indiana 46903-1207 | 38,855
Elkhart Housing Authority | 1396 Benham Avenue, Elkhart, Indiana 46516 | 41,017
Bloomington Housing Authority | P.O. Box 1815 1007 N. Summit, Bloomington, Indiana 47402 | 37,875
Housing Authority of Delaware County, Indiana | 2401 South Haddix Avenue, Muncie, Indiana 47302-7547 | 40,905
Indianapolis Housing Agency | 1919 North Meridan Street, Indianapolis, Indiana 46202-1303 | 142,410
Eastern Iowa Regional Housing Authority | 3999 Pennsylvania Avenue, Suite 200, Dubuque, Iowa 52002 | 47,742
Iowa City Housing Authority | 410 E. Washington Street, Iowa City, Iowa 52240 | 54,794
Northeast Nebraska Joint Housing Authority | 507 7th Street, Suite 401 P.O. Box 447, Sioux City, Iowa 51102 | 70,700
Upper Explorerland Regional Housing Authority | 134 West Greene Street P.O. Box 219, Postville, Iowa 52162-0219 | 42,489
Central Iowa Regional Housing Authority | 950 Office Park Road Suite 321, West Des Moines, Iowa 50265-2548 | 50,663
City of Des Moines Municipal Housing Agency | Park Fair Mall 100 East Euclid, Suite 101, Des Moines, Iowa 50313 | 43,193
Southern Iowa Regional Housing Authority | 219 N. Pine Street, Creston, Iowa 50801 | 41,309
Dubuque Housing and Community Development Department | 1805 Central Avenue, Dubuque, Iowa 52001-3656 | 65,508
Sioux City Housing Authority | P.O. Box 447, Sioux City, Iowa 51102 | 62,500
Fort Dodge Housing Authority | 700 South 17th Street, Fort Dodge, Iowa 50501 | 92,950
Waterloo Housing Authority | 620 Mulberry Street Suite 102, Waterloo, Iowa 50703 | 48,600
Northwest Iowa Regional Housing Authority | P.O. Box 446 919 2nd Avenue SW, Spencer, Iowa 51301 | 40,000
City of Cedar Rapids | 1211 Sixth Street SW, Cedar Rapids, Iowa 52404 | 93,970
Municipal Housing Agency of Council Bluffs | 505 South 6th Street Suite #38, Council Bluffs, Iowa 51501 | 45,401
Region XII Regional Housing Authority | P.O. Box 663 108 West 6th Street, Carroll, Iowa 51401 | 43,035
Iowa Northland Regional Housing Authority | 2101 Kimball Avenue Suite 150, Waterloo, Iowa 50702 | 41,302
Mid Iowa Regional Housing Authority | 1814 Central Avenue, Fort Dodge, Iowa 50501-4236 | 42,218
Ford County Housing Authority | P.O. Box 1636 240 San Jose Drive, Dodge City, Kansas 67801 | 36,865
Chanute Housing Authority | 818 S. Sante Fe, Suite C, Chanute, Kansas 66720 | 14,768
Manhattan Housing Authority | P.O. Box 1024, Manhattan, Kansas 66505-1024 | 39,271
Salina Housing Authority | P.O. Box 1202 469 South 5th Street, Salina, Kansas 67401-1202 | 45,000
Wichita Housing Authority | Housing Services Department 332 North Riverview, Wichita, Kansas 67203 | 106,991
Riley County Housing Authority | 437 Houston Street, Manhattan, Kansas 66502-6148 | 25,000
Brown County/NEK-CAP, Inc. | 1260 220th Street P.O. Box 380, Hiawatha, Kansas 66434-0380 | 34,445
Lyon County/Eckan Housing Authority | P.O. Box 100 602 S. Maple, Ottawa, Kansas 66067 | 28,863
Housing Authority of the City of Atchison, Kansas | 103 S. 7th Street, Atchinson, Kansas 66002 | 13,384
Lawrence-Douglas County Housing Authority | 1600 Haskell Avenue, Lawrence, Kansas 66044-4399 | 32,366
Campbell County Department of Housing | 515 Monmouth Street, Suite 302 P.O. Box 424, Newport, Kentucky 41072-0424 | 45,080
Georgetown Housing Authority | 139 Scroggin Park, Georgetown, Kentucky 40324 | 18,000
City of Covington CDA | 638 Madison Avenue, 2nd Floor, Covington, Kentucky 41011-2298 | 33,206
Housing Authority of Floyd County | 402 John M. Stumbo Drive, Langley, Kentucky 41645 | 35,140
Housing Authority of Cynthiana | P.O. Box 351 148 Federal Street, Cynthiana, Kentucky 41031 | 47,957
Housing Authority of Somerset | P.O. Box 449, Somerset, Kentucky 42502-0449 | 39,500
Kentucky Housing Corporation | 1231 Louisville Road, Frankfort, Kentucky 40601-6191 | 148,818
City of Richmond Section 8 Housing | P.O. Box 250, Richmond, Kentucky 40476-0250 | 34,340
City of Paducah Section 8 Housing | P.O. Box 2267, Paducah, Kentucky 42001-2267 | 35,991
Campbellsville Housing & Redevelopment Authority | 400 Ingram Avenue P.O. Box 597, Campbellsville, Kentucky 42719-0597 | 26,714
Lexington-Fayette Urban Housing Authority | 300 W. New Circle Road at Russell Cave Road, Lexington, Kentucky 40505 | 47,131
Pineville/Bell County Community Development Agency | P.O. Drawer 460, Pineville, Kentucky 40977 | 33,376
Louisville Metro Housing Authority | 420 S. 8th Street, Louisville, Kentucky 40203 | 95,400
City of Bowling Green Housing & Community Development | PO Box 430, Bowling Green, Kentucky 42102 | 38,397
Appalachian Foothills Housing Agency, Inc. | 1214 Riverside Blvd., Wurtland, Kentucky 41144-1635 | 46,460
Boone County Assisted Hsg Dept/Boone County Fiscal Court | 2950 Washington Street, Room 209 P.O. Box 536, Burlington, Kentucky 41005 | 62,000
Housing Authority of Henderson | 111 South Adams Street, Henderson, Kentucky 42420 | 33,000
Pike County Housing Authority | 142 Trivette Drive P.O. Box 1468, Pikeville, Kentucky 41502 | 60,000
Cumberland Valley Regional Housing Authority | P.O. Box 806, Barbourville, Kentucky 40906 | 58,816
Calcasieu Parish Housing Department | 130 West Kirby Street PO Box 1583, Lake Charles, Louisiana 70602-1583 | 56,051
Winn Parish Police Jury / Section 8 Program | P.O. Box 951 119 W. Main Street, Room 102, Winnfield, Louisiana 71483 | 25,452
Terrebonne Parish Consolidated Government | 809 Barrow Street, Houma, Louisiana 70360 | 28,500
City of New Iberia | 457 East Main Street, Suite 300, New Iberia, Louisiana 70560-3700 | 48,180
Webster Parish Police Jury | P.O. Box 876, Minden, Louisiana 71058-0876 | 21,730
Monroe Housing Authority | 300 Harrison Street, Monroe, Louisiana 71201 | 25,619
Housing Authority of the City of Natchitoches | P.O. Box 754 536 Culbertson Lane, Natchitoches, Louisiana 71458-0754 | 45,000
Housing Authority of the City of Shreveport | 2500 Line Avenue, Shreveport, Louisiana 71104 | 64,271
East Baton Rouge Parish Housing Authority | 4731 North Boulevard, Baton Rouge, Louisiana 70806 | 33,872
Bienville Parish Police Jury | P.O. Box 479 100 Courthouse Drive, Room 108, Arcadia, Louisiana 71001 | 15,114
Lincoln Parish Police Jury | PO Box 979, Ruston, Louisiana 71273-0979 | 15,114
DeSoto Parish Police Jury | P.O. Box 898, Mansfield, Louisiana 71052 | 15,114
Lafayette Housing Authority | 100 C.O. Circle, Lafayette, Louisiana 70501 | 48,392
Lafourche Parish Housing Authority | P.O. Drawer 499, Raceland, Louisiana 70394 | 31,209
Housing Authority of Washington Parish | 26074 Hwy 21 Village Square Apts., Box 12, Angie, Louisiana 70426 | 17,883
Housing Authority of the City of Old Town | 358 Main Street P.O. Box 404, Old Town, Maine 04468-0404 | 38,341
Augusta Housing Authority | 33 Union Street, Suite 3, Augusta, Maine 04330 | 30,300
City of Caribou Housing Agency | Municipal Building 25 High Street, Caribou, Maine 04736 | 45,450
Housing Authority of the City of Westbrook, Maine | 30 Liza Harmon Drive, Westbrook, Maine 04092 | 37,875
Lewiston Housing Authority | 1 College Street, Lewiston, Maine 04240-7118 | 8,695
Mount Desert Housing Authority | P.O. Box 28 80 Mount Desert Street, Bar Harbor, Maine 04609 | 34,951
Bangor Housing Authority | 161 Davis Road, Bangor, Maine 04401-2399 | 34,218
Maine State Housing Authority | 353 Water Street, Augusta, Maine 04330-4633 | 73,332
Portland Housing Authority | 14 Baxter Boulevard, Portland, Maine 04104 | 49,300
Harford County Public Housing Authority | 15 South Main Street, Suite 106, Bel Air, Maryland 21014-8725 | 52,516
Cecil County Housing Agency | 129 E. Main Street, Elkton, Maryland 21921 | 44,500
Housing Authority of Calvert County | 480 Main Street P.O. Box 2509, Prince Frederick, Maryland 20678 | 49,994
Housing Opportunities Commission | 10400 Detrick Avenue, Kensington, Maryland 20895-2484 | 350,357
Housing Commission of Anne Arundel County | P.O. Box 0817 7477 Baltimore-Annapolis Boulevard, Glen Burnie, Maryland 21060 | 48,510
Baltimore County Housing Office | 6401 York Road First Floor, Baltimore, Maryland 21212 | 82,564
Maryland Department of Housing and Community Development | Community Development Administration 100 Community Place, Crownsville, Maryland 21032 | 35,350
Housing Authority of the City of Frederick | 209 Madison Street, Frederick, Maryland 21701 | 46,510
Howard County Housing Commission | 6751 Columbia Gateway Drive 3rd Floor, Columbia, Maryland 21046 | 56,952
Housing Authority of the City of Annapolis | 1217 Madison Street, Annapolis, Maryland 21403 | 51,770
Carroll County Bureau of Housing & Community Development | 10 Distillery Drive Suite 101, Westminster, Maryland 21157 | 39,188
St Mary's County Housing Authority | 23115 Leonard Hall Drive P.O. Box 653—Governmental Center, Leonardtown, Maryland 20650 | 42,018
Housing Authority of the City of Hagerstown | 35 W. Baltimore Street, Hagerstown, Maryland 21740 | 47,735
Housing Authority of Washington County | 44 N. Potomac Street #201 P.O. Box 2944, Hagerstown, Maryland 21741-2944 | 29,005
City of Westminster | 56 West Main Street, Westminster, Maryland 21157 | 42,477
Rockville Housing Enterprises | 14 Moore Drive, Rockville, Maryland 20850 | 111,763
Mansfield Housing Authority | 22 Bicentennial Court, Mansfield, Massachusetts 02048 | 27,538
Danvers Housing Authority | 14 Stone Street, Danvers, Massachusetts 01923-1899 | 25,813
Lynn Housing Authority & Neighborhood Development | 10 Church Street, Lynn, Massachusetts 01902 | 56,560
Braintree Housing Authority | 25 Roosevelt Street, Braintree, Massachusetts 02184 | 22,320
Gloucester Housing Authority | P.O. Box 1599, Gloucester, Massachusetts 01931-1599 | 40,063
Reading Housing Authority | 22 Frank D. Tanner Drive, Reading, Massachusetts 01867 | 30,034
Methuen Housing Authority | 24 Mystic Street, Methuen, Massachusetts 01844 | 43,000
North Attleborough Housing Authority | P.O. Box 668, North Attleborough, Massachusetts 02761-0668 | 19,928
Chelmsford Housing Authority | 10 Wilson Street, Chelmsford, Massachusetts 01824 | 43,430
Brookline Housing Authority | 90 Longwood Avenue, Brookline, Massachusetts 02446 | 55,630
Shrewsbury Housing Authority | 36 North Quinsigamond Avenue, Shrewsbury, Massachusetts 01545 | 40,581
Norwood Housing Authority | 40 William Shyne Circle, Norwood, Massachusetts 02062 | 42,001
Melrose Housing Authority | 910 Main Street, Melrose, Massachusetts 02176 | 28,785
Acton Housing Authority | P.O. Box 681 68 Windsor Avenue, Acton, Massachusetts 01720-0681 | 36,614
Dedham Housing Authority | P.O. Box 4067, Dedham, Massachusetts 02027-4067 | 62,500
Somerville Housing Authority | 30 Memorial Road, Somerville, Massachusetts 02145 | 45,004
Andover Housing Authority | 100 Morton Street, Andover, Massachusetts 01810 | 45,000
Wayland Housing Authority | 106 Main Street, Wayland, Massachusetts 01778 | 18,180
North Andover Housing Authority | One Morkeski Meadows, North Andover, Massachusetts 01844 | 26,270
Dennis Housing Authority | 146 South Street, Hyannis, Massachusetts 02601 | 34,649
Massachusetts Department of Housing and Community Development | One Congress Street, Boston, Massachusetts 02114-2010 | 517,385
Worcester Housing Authority | 40 Belmont Street, Worcester, Massachusetts 01605 | 42,420
Tewksbury Housing Authority | Saunders Circle, Tewksbury, Massachusetts 01876 | 16,853
Everett Housing Authority | 393 Perry Street, Everett, Massachusetts 02149 | 48,308
Quincy Housing Authority | 80 Clay Street, Quincy, Massachusetts 02170-2799 | 103,096
Leominster Housing Authority | 100 Main Street, Leominster, Massachusetts 01453-5599 | 45,525
Boston Housing Authority | 52 Chauncy Street, Boston, Massachusetts 02111 | 120,802
Lowell Housing Authority | 350 Moody Street P.O. Box 60, Lowell, Massachusetts 01853-0060 | 62,500
Brockton Housing Authority | P.O. Box 7070 45 Goddard Road, Brockton, Massachusetts 02303-7070 | 62,500
Holyoke Housing Authority | 475 Maple Street Suite #1, Holyoke, Massachusetts 01040-3798 | 93,621
Peabody Housing Authority | 75 Central Street Suite 2, Peabody, Massachusetts 01960-4302 | 53,210
Avon Housing Authority | One Fellowship Circle, Avon, Massachusetts 02322 | 29,684
Milford Housing Authority | 45 Birmingham Court, Milford, Massachusetts 01757 | 14,046
Gardner Housing Authority | 116 Church Street, Gardner, Massachusetts 01440-2556 | 48,300
Greenfield Housing Authority | 1 Elm Terrace, Greenfield, Massachusetts 01301 | 58,949
Taunton Housing Authority | 30 Olney Street Suite B, Taunton, Massachusetts 02780-4141 | 62,500
Framingham Housing Authority | 1 John J. Brady Drive, Framingham, Massachusetts 01702-2300 | 36,360
Wakefield Housing Authority | 26 Crescent Street, Wakefield, Massachusetts 01880 | 22,038
Plymouth Housing Authority | P.O. Box 3537 69 Allerton Street, Plymouth, Massachusetts 02361-3537 | 39,920
Woburn Housing Authority | 59 Campbell Street, Woburn, Massachusetts 01801 | 53,579
Salem Housing Authority | 27 Charter Street, Salem, Massachusetts 01970-3699 | 59,923
Medford Housing Authority | 121 Riverside Avenue, Medford, Massachusetts 02155 | 47,000
Saginaw Housing Commission | P.O. Box 3225 1803 Norman Street, Saginaw, Michigan 48605-3225 | 82,338
Plymouth Housing Commission | 1160 Sheridan, Plymouth, Michigan 48170 | 41,894
Grand Rapids Housing Commission | 1420 Fuller Avenue SE, Grand Rapids, Michigan 49507 | 107,699
Grayling Housing Authority | 308 Lawndale, Grayling, Michigan 49738 | 35,000
Traverse City Housing Commission | 10200 East Carter Centre, Traverse City, Michigan 49684 | 45,000
Kent County Housing Commission | 741 East Beltline Avenue, N.E., Grand Rapids, Michigan 49525-6045 | 112,514
Westland Housing Commission | 32715 Dorsey Road, Westland, Michigan 48186 | 31,829
Michigan State Housing Development Authority | 735 E. Michigan Ave. P.O. Box 30044, Lansing, Michigan 48909 | 234,320
Inkster Housing Commission | 4500 Inkster Road, Inkster, Michigan 48141 | 34,340
Clay County Housing & Redevelopment Authority | P.O. Box 99 116 Center Avenue East, Dilworth, Minnesota 56529-0099 | 36,200
Southeastern Minnesota Multi-County Housing and Redevelopment Authority | 134 East Second Street, Wabasha, Minnesota 55981 | 33,974
Public Housing Agency of the City of Saint Paul | 480 Cedar Street, Suite 600, Saint Paul, Minnesota 55101-1830 | 59,120
South St. Paul Housing Redevelopment Authority | 125 Third Avenue North, South St. Paul, Minnesota 55075-2097 | 50,071
South Central Minnesota Multi-County HRA | 410 Jackson Street, Suite 100, Mankato, Minnesota 56001 | 36,196
Mankato Minnesota E.D.A | P.O. Box 3368 10 Civic Center Plaza, Mankato, Minnesota 56002 | 50,000
Northwest Minnesota Multi-County Housing & Redevelopment Authority | P.O. Box 128, Mentor, Minnesota 56736 | 35,527
Housing Authority of St. Louis Park | 5005 Minnetonka Blvd., St. Louis Park, Minnesota 55416 | 18,453
Scott County Housing Redevelopment Authority | 323 South Naumkeag Street, Shakopee, Minnesota 55379 | 50,000
Washington County Housing and Redevelopment Authority | 321 Broadway Avenue, St. Paul Park, Minnesota 55071 | 24,952
Owantonna Housing and Redevelopment Authority | 540 West Hills Circle, Owatonna, Minnesota 55060 | 32,258
Brainerd Housing and Redevelopment Authority | 324 East River Road, Brainerd, Minnesota 56401 | 41,752
Housing and Redevelopment Authority of Virginia, MN | P.O. Box 1146 442 Pine Mill Court, Virginia, Minnesota 55792 | 54,762
Kandiyohi County HRA | P.O. Box 1359 409 19th Ave. SW, Willmar, Minnesota 56201 | 40,350
Housing and Redevelopment Authority of Winona, Minnesota | 1756 Kraemer Drive Suite 100, Winona, Minnesota 55987 | 18,780
Dakota County Community Development Agency | 1228 Town Centre Drive, Eagan, Minnesota 55123-1066 | 23,203
Metropolitan Council Housing and Redevelopment Authority | 230 East Fifth Street, St. Paul, Minnesota 55101-1626 | 59,598
Plymouth Housing and Redevelopment Authority | 3400 Plymouth Boulevard, Plymouth, Minnesota 55447 | 17,160
Housing & Redevelopment Authority of Duluth | P.O. Box 16900 222 East 2nd Street, Duluth, Minnesota 55816-0900 | 44,460
Mississippi Regional Housing Authority No. VIII | P.O. Box 2347, Gulfport, Mississippi 39505-2347 | 42,420
Tennessee Valley Regional Housing Authority | P.O. Box 1329, Corinth, Mississippi 38835-1329 | 26,163
Mississippi Regional Housing Authority IV | P.O. Box 1051, Columbus, Mississippi 39703-1051 | 35,649
Mississippi Regional Housing Authority VI | P.O. Drawer 8746, Jackson, Mississippi 39204-8746 | 88,499
Biloxi Housing Authority | P.O. Box 447, Biloxi, Mississippi 39533 | 30,576
Mississippi Regional Housing Authority No VII | P.O. Box 886, McComb, Mississippi 39649 | 52,792
North Delta Regional Housing Authority | 4 East Second P.O. Drawer 1148, Clarksdale, Mississippi 38614 | 34,811
Mississippi Regional Housing Authority No V | P.O. Box 419 110 Broad Street, Newton, Mississippi 39345 | 30,993
Housing Authority of the City Of Meridian | 2425 E. Street, Meridian, Mississippi 39301 | 41,312
Ripley County Public Housing Agency | 3019 Fair Street, Poplar Bluff, Missouri 63901 | 32,255
Housing Authority of the City of St. Charles | 1041 Olive Street, St. Charles, Missouri 63301-4799 | 81,649
St. Clair County Housing Authority | P.O. Box 125 106 West Fourth Street, Appleton City, Missouri 64724 | 68,656
Housing Authority of the City of Liberty | 101 E. Kansas, Liberty, Missouri 64068 | 41,935
St. Francois County Public Housing Authority | P.O. Box N 107 Industrial Drive, Park Hills, Missouri 63601-0358 | 26,765
Lincoln County Public Housing Authority | P.O. Box 470 16 North Court Street, Bowling Green, Missouri 63334-0470 | 60,633
Phelps County Public Housing Authority | 4 Industrial Drive, St. James, Missouri 65559 | 50,863
Jasper County Public Housing Authority | P.O Box 207 302 S. Joplin St., Joplin, Missouri 64802 | 24,470
Franklin County Housing Authority | P.O. Box 920, Hillsboro, Missouri 63050 | 40,500
Housing Authority of the City of Springfield, Missouri | 421 W. Madison Street, Springfield, Missouri 65806 | 25,271
Housing Authority of St. Louis County | 8865 Natural Bridge P.O. Box 23886, St. Louis, Missouri 63121 | 36,479
Housing Authority of Kansas City, Missouri | 299 Paseo, Kansas City, Missouri 64106 | 104,461
Helena Housing Authority | 812 Abbey Street, Helena, Montana 59601 | 47,378
Missoula Housing Authority | 1235 34th Street, Missoula, Montana 59801 | 71,425
Housing Authority of Billings | 2415 First Avenue North, Billings, Montana 59101 | 38,671
Norfolk Housing Agency | 110 North 4th Street, Norfolk, Nebraska 68701 | 35,722
Central Nebraska Joint Housing Authority | PO Box 509, Loup City, Nebraska 68853 | 28,879
Blair Housing Authority | 758 South 16th Street, Blair, Nebraska 68008 | 16,875
Kearney Housing Authority | 2715 Avenue I, Kearney, Nebraska 68847-3771 | 37,875
Goldenrod Joint Housing Authority | P.O. Box 280 1119 Avenue East, Wisner, Nebraska 68791-0280 | 31,145
Omaha Housing Authority | 540 S. 27th Street, Omaha, Nebraska 68105-1521 | 81,629
Lincoln Housing Authority | P.O. Box 5327 5700 R Street, Lincoln, Nebraska 68505 | 56,850
Bellevue Housing Authority | 8214 Armstrong Circle, Bellevue, Nebraska 68147 | 31,351
Douglas County Housing Authority | 5404 North 107th Plaza, Omaha, Nebraska 68134-1100 | 40,400
Housing Authority of the City of Reno | 1525 East Ninth Street, Reno, Nevada 89512-3012 | 41,334
Housing Authority of the City of North Las Vegas | 1632 Yale Street, North Las Vegas, Nevada 89030-6892 | 48,177
Housing Authority of Clark County, Nevada | 5390 East Flamingo Road, Las Vegas, Nevada 89122-5335 | 105,011
New Hampshire Housing Finance Agency | P.O. Box 5087, Manchester, New Hampshire 03108 | 149,867
Laconia Housing Authority | 25 Union Avenue, Laconia, New Hampshire 03246-3510 | 37,867
Dover Housing Authority | 62 Whittier Street, Dover, New Hampshire 03820 | 15,438
Nashua Housing Authority | 40 East Pearl Street First Floor, Nashua, New Hampshire 03060-5783 | 41,081
Manchester Housing and Redevelopment Authority | 198 Hanover Street, Manchester, New Hampshire 03104-6125 | 41,970
Fort Lee Housing Authority | 1403 Teresa Drive, Fort Lee, New Jersey 07024 | 47,470
Housing Authority of the County of Morris | P.O. Box 99, Morristown, New Jersey 07960-0900 | 30,300
Burlington County Housing Authority | 795 Woodlane Road, Westhampton P.O. Box 6000, Mt. Holly, New Jersey 08060 | 49,490
County of Passaic Public Housing Agency | 100 Hamilton Plaza, Suite 510, Paterson, New Jersey 07505 | 120,796
Housing Authority Town of Dover | 215 East Blackwell Street, Dover, New Jersey 07801 | 60,469
Asbury Park Housing Authority | 1000 1/2 Third Avenue, Asbury Park, New Jersey 07712-5806 | 40,400
Atlantic City Housing Authority | P.O. Box 1258 227 Vermont North, Atlantic City, New Jersey 08404 | 36,410
Housing Authority of the City of Newark | 57 Sussex Avenue, Newark, New Jersey 07103 | 62,186
Housing Authority of the Township of Woodbridge | Twenty Bunns Lane, Woodbridge, New Jersey 07095-1726 | 39,491
Vineland Housing Authority | 191 Chestnut Avenue, Vineland, New Jersey 08360-5499 | 48,315
Housing Authority of the City of Long Branch | P.O. Box 337 Garfield Court, Long Branch, New Jersey 07740 | 42,925
Warren County Housing Programs | 415B Front Street, Belvidere, New Jersey 07823 | 62,027
Lakewood Township Residential Assistance Program | P.O. Box 856 600 West Kennedy Boulevard, Lakewood, New Jersey 08701 | 47,700
Monmouth County Public Housing Authority | P.O. Box 3000, Freehold, New Jersey 07728 | 125,000
Housing Authority of the City of Paterson | P.O. Box H 60 Van Houten Street, Paterson, New Jersey 07505 | 47,722
Jersey City Housing Authority | 400 U.S. Highway #1, Jersey City, New Jersey 07306 | 107,452
Madison Public Housing Authority | 15 Chateau Thierry Ave., Madison, New Jersey 07940 | 52,000
Housing Authority of the City of Perth Amboy | 881 Amboy Avenue, Perth Amboy, New Jersey 08861-1911 | 91,699
Housing Authority of the Township of Brick | 165 Chambers Bridge Road, Brick, New Jersey 08723 | 15,120
Berkeley Housing Authority | 44 Frederick Drive, Bayville, New Jersey 08721 | 35,000
Housing Authority of the Borough of Carteret | 96 Roosevelt Avenue, Carteret, New Jersey 07008 | 49,506
Housing Authority of the City of East Orange | 160 Halsted Street, East Orange, New Jersey 07018 | 62,500
Millville Housing Authority | P.O. Box 803 309 Buck Street, Millville, New Jersey 08332 | 34,847
Housing Authority of the City of Camden | 1300 Admiral Wilson Boulevard, Camden, New Jersey 08102 | 38,000
City of Paterson Department of Community Development | 125 Ellison Street 3rd Floor, Paterson, New Jersey 07505-1379 | 32,716
New Jersey Department of Community Affairs | P.O. Box 051, Trenton, New Jersey 08625-0814 | 651,298
Passaic Housing Authority | 333 Passaic Street, Passaic, New Jersey 07055 | 37,440
Housing Authority of Socorro County | P.O. Box 00 106 Center Street, Socorro, New Mexico 87801 | 22,615
Clovis Housing and Redevelopment Agency, Inc. | 2101 West Grand Avenue P.O. Box 1240, Clovis, New Mexico 88102-1240 | 32,519
Santa Fe County Housing Authority | 52 Camino de Jacobo, Santa Fe, New Mexico 87507 | 43,645
Truth or Consequences Housing Authority | 108 South Cedar, Truth of Consequences, New Mexico 87901 | 43,430
Bernalillo County Housing Authority | 1900 Bridge Blvd S.W., Albuquerque, New Mexico 87105 | 48,648
Eastern Plains Council of Governments/Region IV Housing Authority | 418 N Main Street, Clovis, New Mexico 88101-7557 | 26,699
Newark Housing Authority | 200 Driving Park Circle P.O. Box 108, Newark, New York 14513-0108 | 46,320
Town of Yorktown | PO Box 703 363 Underhill Avenue, Yorktown Heights, New York 10598 | 46,000
Albany Housing Authority | 200 S. Pearl Street, Albany, New York 12202 | 87,878
Jamestown Housing Authority | 110 W. Third Street Hotel Jamestown Building, Jamestown, New York 14701 | 34,300
City of Niagara Falls Leased Housing Program | P.O. Box 69 1022 Main Street, Niagara Falls, New York 14302-0069 | 44,482
Town of Babylon Housing Assistance Agency | 281 Phelps Lane Room 9, North Babylon, New York 11703-4045 | 46,252
City of Utica | 1 Kennedy Plaza, Utica, New York 13502 | 28,280
North Fork Housing Alliance, Inc. | 110 South Street, Greenport, New York 11944-1619 | 37,500
Geneva Housing Authority | P.O. Box 153 41 Lewis Street, Geneva, New York 14456 | 47,500
Plattsburgh Housing Authority | 39 Oak Street, Plattsburgh, New York 12901-2810 | 35,646
New Rochelle Municipal Housing Authority | 50 Sickles Avenue, New Rochelle, New York 10801 | 46,460
Cohoes Housing Authority | Administrative Building 100 Manor Sites, Cohoes, New York 12047 | 36,150
Port Jervis Community Development Agency | 15 Jersey Avenue Suite 2, Port Jervis, New York 12771 | 38,014
New York State Division of Housing & Community Renewal | 25 Beaver Street—Room 660, New York, New York 10004 | 914,365
City of White Plains | Municipal Building Annex 255 Main Street, White Plains, New York 10601 | 28,028
New York State Division of Housing & Community Renewal | 25 Beaver Street, New York, New York 10004 | 254,019
New York City Department of Housing Preservation and Development | 100 Gold Street, New York, New York 10038 | 777,020
Monticello Housing Authority | 76 Evergreen Drive, Monticello, New York 12701 | 34,340
North Hempstead Housing Authority | Pond Hill Road, Great Neck, New York 11020 | 40,400
City of Buffalo | 470 Franklin Street, Buffalo, New York 14202 | 101,198
Kiryas Joel Housing Authority | 51 Forest Road Suite 360, Monroe, New York 10950 | 62,500
Schenectady Municipal Housing Authority | 375 Broadway, Schenectady, New York 12305 | 89,223
Troy Housing Authority | One Eddy's Lane, Troy, New York 12180 | 46,276
City of Oswego Housing Agency | 20 West Oneida St, 3rd Floor Conway Municipal Center, Oswego, New York 13126 | 43,968
Erie County Public Housing Authority Consortium; Town of Amherst | 1195 Main Street, Buffalo, New York 14209-2196 | 75,000
Rochester Housing Authority | 675 West Main Street Suite 126, Rochester, New York 14611 | 97,043
Town of Smithtown Section 8 Rental Assistance Program | P.O. Box 575 99 West Main Street, Smithtown, New York 11787 | 46,363
City of North Tonawanda | 1195 Main Street, Buffalo, New York 14209-2196 | 20,571
Ithaca Housing Authority | 800 South Plain Street, Ithaca, New York 14850 | 59,525
City of New Rochelle | 515 North Avenue, New Rochelle, New York 10801-3416 | 49,622
City of Fulton, New York | 125 West Broadway, Fulton, New York 13069 | 29,038
Village of Scotia Housing Agency | 242 Union Street, Schenectady, New York 12305 | 26,844
Town of Ramapo Housing Authority | 38 Pondview Drive, Suffern, New York 10901 | 39,140
Town of Poughkeepsie Section 8 Housing Program | One Overrocker Road, Poughkeepsie, New York 12603 | 43,750
Town of Bethlehem Housing Agency | 242 Union Street, Schenectady, New York 12305 | 24,275
Village of Corinth | 260 Main Street, Corinth, New York 12822 | 31,001
Village of Ballston Spa Housing Agency | 242 Union Street, Schenectady, New York 12305 | 31,001
Town of Rotterdam Housing Agency | 1100 Sunrise Boulevard, Rotterdam, New York 12306 | 51,111
Town of Coeymans Housing Agency | 242 Union Street, Schenectady, New York 12305 | 24,275
Gloversville Housing Authority | 181 West Street, Gloversville, New York 12078 | 45,890
Town of Colonie Housing Agency | 242 Union Street, Schenectady, New York 12305 | 49,062
Town of Guilderland | 242 Union Street, Schenectady, New York 12305 | 48,550
City of Poughkeepsie | Municipal Building P.O. Box 300, Poughkeepsie, New York 12602 | 42,732
Syracuse Housing Authority | 516 Burt Street, Syracuse, New York 13202 | 92,677
Mountain Projects, Inc. | 2251 Old Balsam Road, Waynesville, North Carolina 28786 | 63,000
Sanford Housing Authority | P.O. Box 636 1000 Carthage Street, Sanford, North Carolina 27331 | 38,796
Housing Authority of the County of Wake | P.O. Box 399, Zebulon, North Carolina 27597-0399 | 35,350
East Carolina Human Services Agency, Inc. | Post Office Drawer 796, Jacksonville, North Carolina 28541-0796 | 25,346
Housing Authority of the City of High Point | P.O. Box 1779 500 E. Russell Avenue, High Point, North Carolina 27261-1779 | 55,560
Northwestern Regional Housing Authority | P.O. Box 2510 869 Highway 105 Extension, Suite 10, Boone, North Carolina 28607 | 196,848
Economic Improvement Council, Inc. | Highway 32 North P.O.Box 549, Edenton, North Carolina 27932 | 33,529
Lexington Housing Authority | P.O. Box 1085 1 Jamaica Drive, Lexington, North Carolina 27293-1085 | 37,829
Asheboro Housing Authority | P.O. Box 609 338 West Walnman Avenue, Asheboro, North Carolina 27720-0609 | 33,546
City of Concord Housing Department | PO Box 308 283 Harold Goodman Circle, Concord, North Carolina 28025-0308 | 38,380
Mideast Regional Housing Authority | P.O. Box 474 809 Pennsylvania Avenue, Washington, North Carolina 27889 | 27,600
Coastal Community Action, Inc. | 475 US Highway 70 West, Havelock, North Carolina 28532 | 35,130
Sandhills Community Action Program, Inc. | P.O. Box 937 103 Saunders Street, Carthage, North Carolina 28327-0937 | 31,325
Statesville Housing Authority | 110 West Allison Street, Statesville, North Carolina 28677 | 48,064
Brunswick County Public Housing Agency | PO Box 9 60 Government Center Drive NE, Bolivia, North Carolina 28422 | 25,101
Housing Authority of the City of Rocky Mount | P.O. Box 4717, Rocky Mount, North Carolina 27803 | 33,628
Twin Rivers Opportunities, Inc. | P.O. Box 1482 318 Craven Street, New Bern, North Carolina 28563 | 41,792
East Spencer Housing Authority | Post Office Box 367, East Spencer, North Carolina 28039 | 38,495
Housing Authority of the City of Asheville | P.O. Box 1898 165 South French Broad Avenue, Asheville, North Carolina 28802 | 32,646
Chatham County Housing Authority | P.O. Box 637, Pittsboro, North Carolina 27312 | 40,465
Raleigh Housing Authority | P.O. Box 28007 600 Tucker Street, Raleigh, North Carolina 27611 | 38,434
Graham Housing Authority | 109 East Hill Street P.O. Box 88, Graham, North Carolina 27253-0088 | 22,074
Thomasville Housing Authority | 201 James Avenue, Thomasville, North Carolina 27360-2426 | 24,967
Western Carolina Community Action, Inc. | 526 Seventh Avenue East Post Office Box 685, Hendersonville, North Carolina 28793 | 35,608
Isothermal Planning and Development Commission | P.O. Box 841 111 West Court Street, Rutherfordton, North Carolina 28139-0841 | 33,639
Housing Authority of the City of Winston-Salem | 901 Cleveland Avenue, Winston-Salem, North Carolina 27101 | 50,500
Housing Authority of the City of Kinston | P.O. Box 697 608 North Queen Street, Kinston, North Carolina 28502 | 40,213
Housing Authority of the Town of Laurinburg | P.O. Box 1437 1300 Woodlawn Street, Laurinburg, North Carolina 28352 | 57,571
Housing Authority of the City of Durham | P.O. Box 1726 330 East Main Street, Durham, North Carolina 27702 | 81,858
Greensboro Housing Authority | 450 North Church Street P.O. Box 21287, Greensboro, North Carolina 27420-1287 | 81,174
Fargo Housing & Redevelopment Authority | P.O. Box 430, Fargo, North Dakota 58107-0430 | 38,955
Minot Housing Authority | 108 Burdick Expressway East, Minot, North Dakota 58701 | 39,961
Grand Forks Housing Authority | 1405 1st Avenue North, Grand Forks, North Dakota 58203 | 82,680
Stutsman County Housing Authority | 217 First Avenue North, Jamestown, North Dakota 58401 | 25,755
Dayton Metropolitan Housing Authority | P.O. Box 8750 400 Wayne Avenue, Dayton, Ohio 45401-8750 | 74,588
City of Marietta | 301 Putnam Street, Marietta, Ohio 45750 | 41,893
Pickaway Metropolitan Housing Authority | 176 Rustic Drive, Circleville, Ohio 43113 | 33,653
Springfield Metropolitan Housing Authority | 437 E. John Street, Springfield, Ohio 45505-4089 | 41,641
Lorain Metropolitan Housing Authority | 1600 Kansas, Lorain, Ohio 44052-3317 | 47,933
Fairfield Metropolitan Housing Authority | 1506 Amherst Place, Lancaster, Ohio 43130 | 45,900
Trumbull Metropolitan Housing Authority | 1977 Niles Road SE, Warren, Ohio 44484 | 62,500
Jefferson Metropolitan Housing Authority | 815 North Sixth Street, Steubenville, Ohio 43952 | 49,687
Jackson Metropolitan Housing Authority | P.O. Box 619 249 W. Thirteenth Street, Wellston, Ohio 45692 | 39,062
Erie Metropolitan Housing Authority | 322 Warren Street, Sandusky, Ohio 44870 | 48,177
Wayne Metropolitan Housing Authority | 200 South Market Street, Wooster, Ohio 44691 | 41,006
Morgan Metropolitan Housing Authority | 4580 N. State Route 376 NW, McConnelsville, Ohio 43756 | 43,430
Tuscarawas Metropolitan Housing Authority | 134 Second Street, SW, New Philadelphia, Ohio 44663 | 51,954
Morrow Metropolitan Housing Authority | 81 North Rich Street, Mount Gilead, Ohio 43338 | 35,071
Delaware Metropolitan Housing Authority | P.O. Box 1292, Delaware, Ohio 43015 | 43,839
Lucas Metropolitan Housing Authority | 435 Nebraska Avenue P.O. Box 477, Toledo, Ohio 43697-0477 | 130,329
Pike Metropolitan Housing Authority | 2626 Shyville Road, Piketon, Ohio 45661 | 33,000
Zanesville Metropolitan Housing Authority | 407 Pershing Road, Zanesville, Ohio 43701 | 103,563
Adams Metropolitan Housing Authority | 401 East Seventh Street, Manchester, Ohio 45144-1401 | 37,016
Fayette Metropolitan Housing Authority | 121 E. East Street, Washington, Ohio 43160 | 31,310
Akron Metropolitan Housing Authority | Resident Support Services 100 West Cedar Street, Akron, Ohio 44307 | 103,545
Columbus Metropolitan Housing Authority | 880 East 11th Avenue, Columbus, Ohio 43211 | 91,584
Hancock Metropolitan Housing Authority | 604 Lima Avenue, Findlay, Ohio 45840 | 27,662
Youngstown Metropolitan Housing Authority | 131 W. Boardman Street, Youngstown, Ohio 44503-1337 | 82,261
Portsmouth Metropolitan Housing Authority | 410 Court Street, Portsmouth, Ohio 45662 | 28,772
Preble Metropolitan Housing Authority | 2080 St. Rt. 127 N., Eaton, Ohio 45320 | 28,954
Knox Metropolitan Housing Authority | 205 North Gay Street, Mount Vernon, Ohio 43050 | 40,000
Middletown Public Housing Agency | 1040 Central Avenue, Middletown, Ohio 45044 | 76,760
Clermont Metropolitan Housing Authority | 65 South Market Street, Batavia, Ohio 45103 | 26,298
Hamilton County PHA | 138 East Court Street Room 507 County Administration Building, Cincinnati, Ohio 45202-1230 | 124,327
Logan County Metropolitan Housing Authority | 116 North Everett Street, Bellefontaine, Ohio 43311-1132 | 71,411
Chillicothe Metropolitan Housing Authority | 178 West Fourth Street, Chillicothe, Ohio 45601-3219 | 32,320
Warren Metropolitan Housing Authority | 990 East Ridge Drive, Lebanon, Ohio 45036 | 27,753
Meigs Metropolitan Housing Authority | 117 E. Memorial Drive, Pomeroy, Ohio 45769-9615 | 13,938
Allen Metropolitan Housing Authority | 600 South Main Street, Lima, Ohio 45804 | 36,863
Bowling Green Housing Agency | 1044 Chelsea, Napoleon, Ohio 43545 | 21,210
Lake Metropolitan Housing Authority | 189 First Street, Painesville, Ohio 44077 | 73,467
Cincinnati Metropolitan Housing Authority | 16 West Central Parkway, Cincinnati, Ohio 45202 | 207,328
Cuyahoga Metropolitan Housing Authority | 2711 Church Street, Cleveland, Ohio 44113 | 42,420
Cambridge Metropolitan Housing Authority | P.O. Box 1388, Cambridge, Ohio 43725 | 30,949
Vinton Metropolitan Housing Authority | P.O. Box 487 310 West High Street, McArthur, Ohio 45651 | 36,123
Medina Metropolitan Housing Authority | 850 Walter Road, Medina, Ohio 44256-1515 | 78,475
Portage Metropolitan Housing Authority | 2832 State Route 59, Ravenna, Ohio 44266 | 35,875
Broken Bow Housing Authority | P.O. Box 177 710 E. Third, Broken Bow, Oklahoma 74728 | 17,081
Housing Authority of the City of Muskogee | 220 North 40th Street, Muskogee, Oklahoma 74401 | 39,771
Housing Authority of the City of Ponca City | 201 East Broadway, Ponca City, Oklahoma 74601 | 35,319
Housing Authority of the City of Shawnee | 601 West 7th Street P.O. Box 3427, Shawnee, Oklahoma 74802-3427 | 48,209
Oklahoma Housing Finance Agency | P.O. Box 26720, Oklahoma City, Oklahoma 73126 | 44,000
Norman Housing Authority | 700 North Berry Road, Norman, Oklahoma 73069 | 39,572
Housing Authority of the City of Stillwater | 807 S. Lowry, Stillwater, Oklahoma 74074 | 37,875
Housing Authority of the City of Lawton. Oklahoma | 609 S.W. F Avenue, Lawton, Oklahoma 73501 | 31,209
Housing Authority of the City of Tulsa, OK | 415 East Independence, Tulsa, Oklahoma 74106 | 63,977
Oklahoma City Housing Authority | 1700 NE 4th Street, Oklahoma City, Oklahoma 73117-3800 | 28,234
Klamath Housing Authority | P.O. Box 5110 1445 Avalon, Klamath Falls, Oregon 97601-9998 | 45,931
Housing Authority of Malheur County | 959 Fortner Street, Ontario, Oregon 97914 | 22,029
Northwest Oregon Housing Authority | 147 S. Main Avenue P.O. Box 1149, Warrenton, Oregon 97146 | 31,575
Housing Authority of Clackamas County | P.O. Box 1510 13930 South Gain Street, Oregon City, Oregon 97045-0510 | 61,738
Housing Authority of Yamhill County | P.O. Box 865 414 North East Evans Street, McMinnville, Oregon 97128-0865 | 89,623
Mid-Columbia Housing Agency | 312 Court Street, Suite 419, The Dalles, Oregon 97058 | 43,140
Central Oregon Regional Housing Authority | 2445 S.W. Canal Blvd., Redmond, Oregon 97756 | 39,600
Housing and Community Services Authority of Lane County (HACSA) | 177 Day Island Road, Eugene, Oregon 97401 | 101,609
Northeast Oregon Housing Authority | P.O. Box 3357 2608 May Lane, LaGrande, Oregon 97850 | 79,285
Housing Authority and Urban Renewal Agency of Polk County | P.O. Box 467 204 S.W. Walnut, Dallas, Oregon 97338 | 31,768
Housing Authority of Jackson County | 2231 Table Rock Road, Medford, Oregon 97501 | 91,122
Housing Authority of Portland | 135 S.W. Ash Street 5th Floor, Portland, Oregon 97204-3540 | 220,481
Housing Authority of Douglas County | 902 West Stanton Street, Roseburg, Oregon 97470 | 52,500
Housing Authority of the County of Umatilla | P.O. Box 107, Hermiston, Oregon 97838 | 26,200
Coos-Curry Housing Authority | 1700 Monroe Street, North Bend, Oregon 97459 | 39,933
Linn Benton Housing Authority | 1250 Queen Avenue Se, Albany, Oregon 97321 | 102,084
Housing Authority of Washington County | 111 NE Lincoln Suite 200-L, MS 63, Hillsboro, Oregon 97124-3072 | 96,190
Housing Authority of the City of Salem | P.O. Box 808 360 Church Street SE, Salem, Oregon 97308-0808 | 112,474
Housing Authority of Lincoln County | P.O. Box 1470 1039 N.W. Nye Street, Newport, Oregon 97365 | 34,269
Marion County Housing Authority | P.O. Box 14500, Salem, Oregon 97309-5036 | 48,213
Lancaster City Housing Authority | 325 Church Street, Lancaster, Pennsylvania 17602-4201 | 97,592
Union County Housing Authority | 1610 Industrial Boulevard, Suite 400, Lewisburg, Pennsylvania 17837-1273 | 45,015
Housing Authority of Indiana County | 104 Philadelphia Street, Indiana, Pennsylvania 15701 | 16,895
Fayette County Housing Authority | 624 Pittsburgh Road, Uniontown, Pennsylvania 15401 | 40,000
Sunbury Housing Authority | P.O. Box 458 705 Market Street, Sunbury, Pennsylvania 17801 | 12,000
Housing Authority of the County of Armstrong | 350 South Jefferson Street, Kittanning, Pennsylvania 16201 | 25,048
Montgomery County Housing Authority | 104 W. Main Street Suite 1, Norristown, Pennsylvania 19401-3146 | 38,738
Housing Authority of the County of Chester | 30 West Barnard Street First Floor, West Chester, Pennsylvania 19382 | 50,925
Altoona Housing Authority | 2700 Pleasant Valley Boulevard, Altoona, Pennsylvania 16602-4492 | 49,622
Housing Authority of the County of Butler | 114 Woody Drive, Butler, Pennsylvania 16001 | 42,420
Harrisburg Housing Authority | 351 Chestnut Street, Harrisburg, Pennsylvania 17101-2785 | 38,683
Housing Authority of Montour County | One Beaver Place, Danville, Pennsylvania 17821 | 40,000
Philadelphia Housing Authority | 12 South 23rd Street, Philadelphia, Pennsylvania 19103 | 279,860
Housing Authority City of Pittsburgh | 200 Ross Street, Pittsburgh, Pennsylvania 15219 | 83,192
Lancaster County Housing Authority | 150 North Queen Street Suite 110, Lancaster, Pennsylvania 17603-3562 | 48,783
Centre County Housing Authority | 121 Beaver Farm lane, Bellefonte, Pennsylvania 16823 | 10,504
Williamsport Housing Authority | 605 West Fourth Street, Williamsport, Pennsylvania 17701 | 35,190
Wilkes-Barre Housing Authority | 50 Lincoln Plaza, Wilkes-Barre, Pennsylvania 18702 | 41,635
Westmoreland County Housing Authority | R.D. #6 South Greengate Road P.O. Box 223, Greensburg, Pennsylvania 15601-9308 | 80,307
Cumberland County Housing Authority | 114 North Hanover Street, Ste.104, Carlisle, Pennsylvania 17013-2445 | 37,633
Housing Authority of the County of Lackawanna | 2019 West Pine Street, Dunmore, Pennsylvania 18512 | 38,400
Clarion County Housing Authority | 8 West Main Street, Clarion, Pennsylvania 16214 | 38,279
Housing Authority of Northumberland | 50 Mahoning Street, Milton, Pennsylvania 17847 | 31,596
Housing Authority of the City of York | 31 S. Broad Street P.O. Box 1963, York, Pennsylvania 17405 | 38,732
Municipality of Yabucoa | Apartado 97, Yabucoa, Puerto Rico 00767 | 14,000
Municipality of Adjuntas | Adjuntas, Puerto Rico, 00601 | 17,500
Municipality of Juana Diaz | P.O. Box 1409, Juana Diaz, Puerto Rico 00795 | 20,916
Municipality of Aguas Buenas | P.O. Box 128, Aguas Buenas, Puerto Rico 00703-0128 | 22,176
Municipality of Bayamon | P.O. Box 1588, Bayamon, Puerto Rico 00960-1588 | 18,000
South Kingstown Housing Authority | 364 Curtis Corner Road, Peace Dale, Rhode Island 02879 | 33,309
Rhode Island Housing and Mortgage Finance Corporation | 44 Washington Street, Providence, Rhode Island 02903-1721 | 45,819
Coventry Housing Authority | 14 Manchester Circle, Coventry, Rhode Island 02816 | 43,042
North Providence Housing Authority | 945 Charles Street, North Providence, Rhode Island 02904 | 13,000
Woonsocket Housing Authority | 679 Social Street, Woonsocket, Rhode Island 02895-2090 | 10,403
Narragansett Housing Authority | 25 Fifth Avenue P.0. Box 388, Narragansett, Rhode Island 02882 | 72,720
Pawtucket Housing Authority | P.O. Box 1303 214 Roosevelt Avenue, Pawtucket, Rhode Island 02862-1303 | 42,125
Providence Housing Authority | 100 Broad Street, Providence, Rhode Island 02903 | 119,150
Housing Authority of the City of Greenwood | P.O. Box 973, Greenwood, South Carolina 29648-0973 | 35,971
Housing Authority of the City of Columbia, South Carolina | 1917 Harden Street, Columbia, South Carolina 29204-1015 | 36,755
Housing Authority of the City of Charleston | 550 Meeting Street, Charleston, South Carolina 29403 | 45,568
Myrtle Beach Housing Authority | 605 10th Avenue North P.O. Box 2468, Myrtle Beach, South Carolina 29578-2468 | 77,020
Housing Authority of the City of North Charleston | P.O. Box 70987, North Charleston, South Carolina 29415 | 40,000
Housing Authority of the City of Greenville | P.O. Box 10047, Greenville, South Carolina 29603 | 31,117
Charleston County Housing & Redevelopment Authority | P.O. Box 6188 2106 Mt. Pleasant Street, Charleston, South Carolina 29405-6188 | 33,590
Spartanburg Housing Authority | P.O. Box 2828, Spartanburg, South Carolina 29304-2828 | 37,867
Housing Authority of Florence South Carolina | P.O.Box 969 400 East Pine Street, Florence, South Carolina 29503 | 28,877
Housing Authority of Cheraw | P.O. Box 969 400 East Pine Street, Florence, South Carolina 29503 | 23,000
Housing and Redevelopment Authority of Marlboro County | P. O. Box 969 400 East Pine Street, Florence, South Carolina 29503 | 23,000
SC State Housing Finance & Development Authority | 919 Bluff Road, Columbia, South Carolina 29201 | 41,603
Anderson Housing Authority | 1335 East River Street, Anderson, South Carolina 29624 | 36,024
Beaufort Housing Authority | P.O. Box 1104 1009 Prince Street, Beaufort, South Carolina 29901 | 25,227
Mobridge Housing & Redevelopment Commission | P.O. Box 370 116 4th Street W., Mobridge, South Dakota 57601-0370 | 32,249
Sioux Falls Housing and Redevelopment Commission | 630 S. Minnesota Ave, Sioux Falls, South Dakota 57104-4825 | 69,497
Brookings Housing & Redevelopment Commission | P. O. Box 432 1310 Main Avenue South, Brookings, South Dakota 57006-0432 | 35,634
Tennessee Housing Development Agency | 404 James Robertson Parkway, Suite 1114, Nashville, Tennessee 37243-0900 | 152,955
Jackson Housing Authority | P.O. Box 3188 125 Preston Street, Jackson, Tennessee 38303-0188 | 85,939
Metropolitan Development & Housing Agency | 701 South Sixth Street, Nashville, Tennessee 37202 | 119,217
Knoxville's Community Development Corporation | P.O. Box 3550 901 Broadway, N.E., Knoxville, Tennessee 37917-3550 | 83,927
Crossville Housing Authority | P.O. Box 425, Crossville, Tennessee 38557 | 47,738
Memphis Housing Authority | P.O. Box 3664 700 Adams Avenue, Memphis, Tennessee 38103 | 45,050
Southeast Tennessee Human Resource Agency | 1012 Resource Road P.O. Box 909, Dunlap, Tennessee 37327 | 44,598
Chattanooga Housing Authority | P.O. Box 1486, Chattanooga, Tennessee 37401 | 62,500
Kingsport Housing and Redevelopment Authority | P.O. Box 44 906 E. Sevier Avenue, Kingsport, Tennessee 37662-0044 | 32,830
East Tennessee Human Resource Agency, Inc. | 9111 Cross Park Drive, Suite D-100, Knoxville, Tennessee 37923 | 32,492
Oak Ridge Housing Authority | 10 Van Hicks Lane, Oak Ridge, Tennessee 37830 | 34,183
Housing Authority of the City of Mission | 906 East 8th Street, Mission, Texas 78572 | 30,300
Port Arthur Housing Authority | 920 Dequeen P.O. Box 2295, Port Arthur, Texas 77643 | 46,662
Housing Authority of the City of Pharr | 211 West Audrey, Pharr, Texas 78577 | 28,280
Anthony Housing Authority | P.O. Box 1710 1007 Franklin, Anthony, Texas 79821 | 36,510
Housing Authority of the City of Rosenberg | 117 Lane Drive Suite 18, Rosenberg, Texas 77471 | 21,430
Housing Authority of the County of Hidalgo | 1800 N. Texas Boulevard, Weslaco, Texas 78596 | 30,833
City of San Marcos Housing Authority | 1201 Thorpe Lane, San Marcos, Texas 78666 | 38,000
Plano Housing Authority | 1111 Avenue H, Building A, Plano, Texas 75074 | 34,338
The PHA of San Angelo, Texas | 115 West 1st Street, San Angelo, Texas 76903 | 35,757
City of Longview Housing/Community Development | P.O. Box 1952, Longview, Texas 75606 | 56,623
Garland Housing Authority | 210 Carver Street, Suite 201B, Garland, Texas 75040 | 48,392
Housing Authority of the City of Brownsville | 2606 Boca Chica Boulevard, Brownsville, Texas 78521 | 52,500
City of Grand Prairie Housing And Neighborhood Services | P.O. Box 534045, Grand Prairie, Texas 75053-4045 | 36,415
Housing Authority of the City of Dallas, Texas | 3939 N. Hampton Road, Dallas, Texas 75212 | 278,574
Fort Worth Housing Authority | 1201 East 13th Street, Fort Worth, Texas 76102-5764 | 41,814
Housing Authority of the City of EL Paso | P.O. Box 9895, El Paso, Texas 79995-2895 | 80,615
Robstown Housing Authority | 625 West Avenue F, Robstown, Texas 78380 | 31,250
Bexar County Housing Authority | 301 South Frio Street Suite 290, San Antonio, Texas 78207 | 27,000
Housing Authority of the City of Lubbock | P.O. Box 2568, Lubbock, Texas 79401 | 27,731
Laredo Housing Authority | 2000 San Francisco Avenue, Laredo, Texas 78040 | 44,608
Liberty County Housing Authority | 2103 Cos Street, Room 103, Liberty, Texas 77575 | 60,000
Walker County Housing Authority | P.O. Box 1411, Huntsville, Texas 77342-1411 | 45,000
Texoma Council of Governments | 1117 Gallagher Drive, Sherman, Texas 75090 | 36,325
Arlington Housing Authority | 501 W. Sanford Street Suite 20, Arlington, Texas 76011 | 101,170
Midland County Housing Authority | 1710 Edwards Street, Midland, Texas 79701 | 39,609
Housing Authority of Travis County | P.O. Box 1527 2200 East Martin Luther King Jr. Boulevard, Austin, Texas 78767 | 35,350
City of Wichita Falls Housing Assistance Program | P.O. Box 1431 1300 7th Street, Wichita Falls, Texas 76307 | 33,016
Brazos Valley Council of Government HCV Program | P.O. Drawer 4128, Bryan, Texas 77805-4128 | 145,549
Housing Authority of the City of Denton | 1225 Wilson St., Denton, Texas 76205 | 45,378
City of Mesquite Housing Office | P.O. Box 850137, Mesquite, Texas 75185-0137 | 46,851
Tarrant County Housing Assistance Office | 1200 Circle Drive Suite 100, Fort Worth, Texas 76119 | 42,106
Housing Authority of the City of Beaumont | 3710 Magnolia, Beaumont, Texas 77703 | 31,645
Housing Authority of the City of San Antonio | 818 South Flores Street, San Antonio, Texas 78204 | 118,208
Kingsville Housing Authority | P.O. Box 847 1000 West Corral Avenue, Kingsville, Texas 78363-3035 | 50,663
Austin Housing Authority | 1640-B East Second Street, Austin, Texas 78702 | 82,290
Housing Authority of the City of Waco | 4400 Cobbs Drive P.O. Box 978, Waco, Texas 76703-0978 | 68,950
Central Texas Council of Governments Housing Division | P.O. Box 729 302 East Central, Belton, Texas 76513 | 37,282
Housing Authority of the City of Port Isabel | P.O. Box 1196 506 Port Road, Port Isabel, Texas 78578 | 22,220
Montgomery County Housing Authority | 1022 McCall Street, Conroe, Texas 77301 | 36,200
Deep East Texas Council of Governments Regional Housing Authority | 274 East Lamar Street, Jasper, Texas 75951 | 61,261
Housing Authority of The City of Texarkana, Texas | 1611 N. Robison Rd., Texarkana, Texas 75501 | 24,765
Housing Authority of Utah County | 240 E. Center Street, Provo, Utah 84606-3162 | 41,915
Davis County Housing Authority | 352 South 22 West, Suite #1 P.O. Box 328, Farmington, Utah 84025 | 36,714
Provo City Housing Authority | 650 West 100 North, Provo, Utah 84601 | 79,252
Housing Authority of the County of Salt Lake | 3595 South Main Street, Salt Lake City, Utah 84115 | 85,762
Housing Authority of the City of Ogden | 2661 Washington Boulevard #2, Ogden, Utah 84401 | 53,769
Housing Authority of Salt Lake City | 1776 South West Temple, Salt Lake City, Utah 84115 | 95,400
Burlington Housing Authority | 65 Main Street, Burlington, Vermont 05401-8408 | 94,846
Vermont State Housing Authority | One Prospect Street, Montpelier, Vermont 05602-3556 | 176,346
Newport News Redevelopment & Housing Authority | P.O. Box 797, Newport News, Virginia 23607-0077 | 91,291
Fairfax County Redevelopment and Housing Authority | 3700 Pender Drive, Suite 100, Fairfax, Virginia 22030-7442 | 20,169
Chesapeake Redevelopment & Housing Authority | 1468 South Military Highway, Chesapeake, Virginia 23320 | 47,086
Hampton Redevelopment and Housing Authority | P.O Box 280, Hampton, Virginia 23669 | 43,702
Roanoke Redevelopment & Housing Authority | P.O. Box 6359 2624 Salem Turnpike NW, Roanoke, Virginia 24017 | 48,000
Virginia Housing Development Authority | 601 South Belvidere Street, Richmond, Virginia 23220 | 184,715
Waynesboro Redevelopment & Housing Authority | 1700 New Hope Road P.O. Box 1138, Waynesboro, Virginia 22980-0821 | 36,446
Prince William County Office of Housing Community Development | 15941 Donald Curtis Drive Suite 112, Woodbridge, Virginia 22191 | 62,130
Albermarle County Office of Housing | 401 McIntire Road, Charlottesville, Virginia 22902-4596 | 47,091
Loudon County | 102 Heritage Way, NE Suite 103, Leesburg, Virginia 20176 | 62,500
James City County Office of Housing & Community Development | 5248 Olde Towne Road Suite 10, Williamsburg, Virginia 23188 | 45,198
City of Virginia Beach, Dept of Housing & Neighborhood Preservation | 2424 Courthouse Drive, Municipal Center Building 18A, Virginia Beach, Virginia 23456 | 46,038
Housing Authority of Island County | 7 N. W. 6th Street, Coupeville, Washington 98239 | 41,600
Yakima Housing Authority | 810 N. 6th Avenue, Yakima, Washington 98902 | 32,949
Housing Authority of Grant County | 1139 Larson Boulevard, Moses Lake, Washington 98837 | 23,350
Housing Authority of Thurston County | 503 West 4th Avenue, Olympia, Washington 98501 | 125,000
Housing Authority of the City of Pasco and Franklin County | 2505 West Lewis Street, Pasco, Washington 99301 | 36,515
Everett Housing Authority | 3107 Colby P.O. Box 1547, Everett, Washington 98206-1547 | 68,781
Housing Authority of Jefferson County | 5210 Kuhn, Port Townsend, Washington 98368 | 36,360
Tacoma Housing Authority | 902 South L Street Suite 2A, Tacoma, Washington 98405-4037 | 56,417
Kitsap County Consolidated Housing Authority | 9307 Bayshore Drive NW, Silverdale, Washington 98383 | 94,585
Housing Authority of Snohomish County | 12625 4th Avenue, W., Suite 200, Everett, Washington 98204 | 52,044
Housing Authority of the County of Clallam | 2603 South Francis Street, Port Angeles, Washington 98362 | 40,680
Housing Authority City of Kennewick | 1915 W. 4th Place P.O. Box 6737, Kennewick, Washington 99336 | 38,889
Housing Authority of the City of Bremerton | 110 Russell Road P.O Box 4460, Bremerton, Washington 98312 | 41,162
Housing Authority of Chelan County & the City of Wenatchee | 1555 S. Methow St., Wenatchee, Washington 98801-9417 | 15,150
Pierce County Housing Authority | 603 South Polk Street P.O. Box 45410, Tacoma, Washington 98445-0410 | 62,500
Bellingham Whatcom County Housing Authorities | P.O. Box 9701, Bellingham, Washington 98227-9701 | 39,004
Spokane Housing Authority | 55 W. Mission Suite 104, Spokane, Washington 99201-3298 | 159,799
Housing Authority City of Richland | 1215 Thayer Drive, Richland, Washington 99352 | 31,748
Housing Authority of the City of Walla Walla | 501 Cayuse Street, Walla Walla, Washington 99362 | 28,408
Housing Authority City of Kelso | 1415 South Tenth, Kelso, Washington 98626 | 22,172
King County Housing Authority | 600 Andover Park West, Seattle, Washington 98188-2583 | 125,000
Seattle Housing Authority | 120 6th Avenue North, Seattle, Washington 98109 | 199,328
Housing Authority of the City of Buckhannon | 23 1/2 Hinkle Drive, Buckhannon, West Virginia 26201 | 26,129
Raleigh County Housing Authority | P.O. Box 2618, Beckley, West Virginia 25802-2618 | 33,142
Huntington West Virginia Housing Authority | P.O. Box 2183, Huntington, West Virginia 25722 | 35,167
Parkersburg Housing Authority | 1901 Cameron Avenue, Parkersburg, West Virginia 26101 | 24,773
Housing Authority of Mingo County | Room 334, Mingo County Courthouse, Williamson, West Virginia 25661 | 30,884
Housing Authority of the City of Wheeling | 11 Community Street P.O. Box 2089, Wheeling, West Virginia 26003 | 38,588
Weirton Housing Authority | 525 Cove Road, Weirton, West Virginia 26062 | 29,819
Kanawha County Housing and Redevelopment Authority | P.O. Box 3826, Charleston, West Virginia 25338 | 34,106
Benwood Housing Authority | 2200 Marshall Street, Benwood, West Virginia 26031 | 35,494
Greenbrier County Housing Authority | Route 2, Box 142, Lewisburg, West Virginia 24901 | 29,730
Harrison County Housing Authority | 301 W. Main Street, Clarksburg, West Virginia 26301 | 32,041
Fairmont Housing Authority | 419 Fairmont Avenue, Fairmont, West Virginia 26554 | 52,500
Charleston Housing | P.O. Box 86, Charleston, West Virginia 25321-0086 | 33,040
Housing Authority of the City of Beckley | P.O. Box 1780, Beckley, West Virginia 25802-1780 | 24,464
Walworth County Housing Authority | W3929 County NN, Elkhorn, Wisconsin 53121 | 34,729
Eau Claire County Housing Authority | 721 Oxford Avenue, Room 1590 Eau Claire County Courthouse, Eau Claire, Wisconsin 54703 | 36,461
Housing Authority of the City of Superior | P.O. Box 458 1219 North Eight Street, Superior, Wisconsin 54880 | 42,654
Dunn County Housing Authority | P.O. Box 66 430 Crescent Street, Menomonie, Wisconsin 54751 | 35,228
Brown County Housing Authority | 100 North Jefferson Street Room 608, Green Bay, Wisconsin 54301-5026 | 46,952
Appleton Housing Authority | 925 W. Northland Ave., Appleton, Wisconsin 54914 | 36,853
Housing Authority of Racine County | 837 Main Street, Racine, Wisconsin 53403 | 36,525
City of Kenosha Housing Authority | 625 52nd St. Room 98, Kenosha, Wisconsin 53140 | 45,743
Housing Authority of the City of Casper | 1514 E. 12th Suite 105, Casper, Wyoming 82601 | 34,612
Cheyenne Housing Authority | 3304 Sheridan Street, Cheyenne, Wyoming 82009 | 32,077

[FR Doc. E6-17608 Filed 10-19-06; 8:45 am]

BILLING CODE 4210-67-P